DEPARTMENT OF TRANSPORTATION

Federal Aviation Administration

14 CFR Part 39

[Docket No. 2001-NM-318-AD; Amendment 39-12855; AD 2002-16-16]

RIN 2120-AA64

Airworthiness Directives; Dornier Model 328-100 and -300 Series Airplanes

AGENCY: Federal Aviation Administration, DOT.

ACTION: Final rule.

SUMMARY: This amendment adopts a new airworthiness directive (AD), applicable to certain Dornier Model 328-100 and -300 series airplanes, that requires inspecting the identification plate on the fire extinguisher bottle of the auxiliary power unit (APU), and replacing the existing actuating cartridge of the fire extinguisher bottle with a correct actuating cartridge, if necessary. This AD also requires removing the fire extinguisher bottle equipped with the actuating cartridge from the APU, and reinstalling the fire extinguisher bottle equipped with the correct actuating cartridge into the APU. The actions specified by this AD are intended to prevent failure of the actuating cartridge on the APU fire extinguisher, which could result in the inability to extinguish an APU fire in-flight, and consequent reduced structural integrity of the airplane. This action is intended to address the identified unsafe condition.

DATES: Effective September 23, 2002.

The incorporation by reference of certain publications listed in the regulations is approved by the Director of the Federal Register as of September 23, 2002.

ADDRESSES: The service information referenced in this AD may be obtained from Fairchild Dornier, Dornier Luftfahrt GmbH, PO Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriquez; Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Dornier Model 328-100 and -300 series airplanes was published in the Federal Register on April 18, 2002 (67 FR 19132). That action proposed to require inspecting the identification plate on the fire extinguisher bottle in the auxiliary power unit (APU) to verify if the correct actuating cartridge has been installed, and replacing the existing actuating cartridge of the fire extinguisher bottle with the correct actuating cartridge, if necessary. That action also proposed to require removing the fire extinguisher bottle equipped with the actuating cartridge from the APU, and reinstalling the fire extinguisher bottle equipped with the correct actuating cartridge into the APU.

Comments

Interested persons have been afforded an opportunity to participate in the making of this amendment. No comments were submitted in response to the proposal.

Explanation of Change to Final Rule

Since the language in Note 3 of the proposed AD is regulatory in nature, that note has been redesignated as paragraph (b) of this final rule. Additionally, the new paragraph clarifies that the referenced service bulletin affects Model 328-300 series airplanes.

Conclusion

The FAA has determined that air safety and the public interest require the adoption of the rule with the change described previously. The FAA has determined that this change will neither increase the economic burden on any operator nor increase the scope of the AD.

Cost Impact

The FAA estimates that 88 Model 328-100 and -300 series airplanes of U.S. registry will be affected by this AD, that it will take approximately 1 work hour per airplane to accomplish the required actions, and that the average labor rate is $60 per work hour. Required parts will be provided by the manufacturer at no cost to the operators. Based on these figures, the cost impact of the AD on U.S. operators is estimated to be $5,280, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-16 Dornier Luftfahrt GmbH: Amendment 39-12855. Docket 2001-NM-318-AD.

Applicability: Model 328-100 series airplanes, as listed in Dornier Service Bulletin SB-328-26-342, dated November 2, 2000; and Model 328-300 series airplanes, as listed in Dornier Service Bulletin SB-328J-26-049, Revision 1, dated June 11, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the actuating cartridge on the auxiliary power unit (APU) fire extinguisher, which could result in the inability to extinguish an APU fire in-flight, and consequent reduced structural integrity of the airplane, accomplish the following:

Removal, Inspection, Corrective Actions, and Reinstallation

(a) Within 45 days after the effective date of this AD, do the actions specified in paragraphs (a)(1), (a)(2), and (a)(3) of this AD, per Dornier Service Bulletin SB-328-26-342, dated November 2, 2000 (for Model 328-100 series airplanes); or Dornier Service Bulletin SB-328J-26-049, Revision 1, dated June 11, 2001 (for Model 328-300 series airplanes); as applicable.

(1) Remove the fire extinguisher bottle equipped with the actuating cartridge from the APU.

(2) Inspect the identification plate on the fire extinguisher bottle to verify if the correct actuating cartridge (part number (P/N) 30903964) has been installed. If the correct actuating cartridge has not been installed, before further flight, replace the existing actuating cartridge with a correct actuating cartridge, P/N 30903964, and vibra etch the identification plate to indicate the new P/N, per the service bulletin.

(3) Reinstall the fire extinguisher bottle equipped with the correct actuating cartridge into the APU.

Note 2: Dornier Service Bulletin SB-328-26-342, dated November 2, 2000; and Dornier Service Bulletin SB-328J-26-049, Revision 1, dated June 11, 2001; both reference Pacific Scientific Service Bulletin 33100016-26-1, dated November 15, 2000, as an additional source of service information for accomplishing the inspection and replacement.

(b) Accomplishment of the actions specified in Dornier Service Bulletin SB-328J-26-049, dated November 2, 2000 (for Model 328-300 series airplanes), is acceptable for compliance with the actions required by paragraph (a) of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified in this AD, the actions shall be done per Dornier Service Bulletin SB-328-26-342, dated November 2, 2000; or Dornier Service Bulletin SB-328J-26-049, Revision 1, dated June 11, 2001; as applicable. This incorporation by reference was approved by the Director of the Federal Register in accordance with 5 U.S.C. 552(a) and 1 CFR part 51. Copies may be obtained from FAIRCHILD DORNIER, DORNIER Luftfahrt GmbH, PO Box 1103, D-82230 Wessling, Germany. Copies may be inspected at the FAA, Transport Airplane Directorate, 1601 Lind Avenue, SW., Renton, Washington; or at the Office of the Federal Register, 800 North Capitol Street, NW., suite 700, Washington, DC.

Note 4: The subject of this AD is addressed in German airworthiness directives 2001-291 and 2001-292, both dated October 18, 2001.

Effective Date

(f) This amendment becomes effective on Sepetmber 23, 2002.

Issued in Renton, Washington, on August 9, 2002.
Vi Lipski,
Manager, Transport Airplane Directorate, Aircraft Certification Service.

[FR Doc. 02-20707 Filed 8-16-02; 8:45 am]

BILLING CODE 4910-13-P